DEPARTMENT OF HEALTH AND HUMAN SERVICES

Substance Abuse and Mental Health Services Administration

Agency Information Collection Activities: Proposed Collection; Comment Request

AGENCY: Substance Abuse and Mental Health Services Administration, HHS.

ACTION: Notice.

SUMMARY: In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Services Grant Program for Residential Treatment for Pregnant and Postpartum Women (PPW) Quarterly Progress Reports—NEW

The Substance Abuse and Mental Health Services Administration (SAMHSA), Center for Substance Abuse Treatment, has developed a set of infrastructure development measures in which recipients of cooperative agreements will report on various benchmarks on a quarterly-annual basis. The infrastructure development measures are designed to collect information at the grantee-level and program-level.

The draft infrastructure measures are based on the programmatic requirements conveyed in TI-14-005, Services Grant Program for Residential Treatment for Pregnant and Postpartum Women.

The purpose of this program is to provide funding to improve treatment for low-income (according to federal poverty guidelines) women, age 18 and over, who are pregnant, postpartum (the period after childbirth up to 12 months), and their minor children, age 17 and under, who have limited access to quality health services.

The pregnant and postpartum women program will implement parenting and treatment evidence-based practice models and a feedback loop developed to enable the grantee and the programs to identify barriers and test solutions through direct services. The expected outcomes of these grants will include decreases in the use and/or abuse of prescription drugs, alcohol, tobacco, illicit and other harmful drugs (e.g., inhalants) among pregnant and postpartum women; increases in safe and healthy pregnancies; improved birth outcomes; reduced perinatal and environmentally-related effects of maternal and/or paternal drug abuse on infants and children; improved mental and physical health of women and children; prevention of mental, emotional, and behavioral disorders among the children; improved parenting skills, family functioning, economic stability, and quality of life; decreased involvement in and exposure to crime, violence, and neglect; and decreased physical, emotional, and sexual abuse for all family members. Women, their adolescents/children (up to age 17), fathers, and other family members who are provided services through grant funds will inform the process to improve systems issues.

Annual Data Collection Burden Data Collection Burden
Instrument/activity | Number of respondents | Responses per respondent | Total responses | Hours per response | Total hour burden
Progress Report | 25 | 4 | 100 | 8 | 800

Send comments to Summer King, SAMHSA Reports Clearance Officer, Room 2-1057, One Choke Cherry Road, Rockville, MD 20857 or email her a copy at summer.king@samhsa.hhs.gov. Written comments should be received by March 7, 2016.

Summer King,
Statistician.

[FR Doc. 2015-33221 Filed 1-5-16; 8:45 am]

BILLING CODE 4162-20-P